DEPARTMENT OF THE INTERIOR

National Park Service

[N6636; NPS-WASO-NAGPRA-NPS0041368; PPWOCRADN0-PCU00RP14.R50000]

Notice of Inventory Completion: Gilcrease Museum, Tulsa, OK

AGENCY: National Park Service, Interior.

ACTION: Notice.

SUMMARY: In accordance with the Native American Graves Protection and Repatriation Act (NAGPRA), the Gilcrease Museum has completed an inventory of human remains and associated funerary objects and has determined that there is a cultural affiliation between the human remains and associated funerary objects and Indian Tribes or Native Hawaiian organizations in this notice.

DATES: Repatriation of the human remains and associated funerary objects in this notice may occur on or after January 15, 2026.

ADDRESSES: Send written requests for repatriation of the human remains and associated funerary objects in this notice to Laura Bryant, Gilcrease Museum, 800 S Tucker Drive, Tulsa, OK 74104, email laura-bryant@utulsa.edu.

SUPPLEMENTARY INFORMATION: This notice is published as part of the National Park Service's administrative responsibilities under NAGPRA. The determinations in this notice are the sole responsibility of the Gilcrease Museum, and additional information on the determinations in this notice, including the results of consultation, can be found in the inventory or related records. The National Park Service is not responsible for the determinations in this notice.

Abstract of Information Available

Human remains representing, at least, 22 individuals have been reasonably identified. The 390 associated funerary objects are four lots of stones, 21 lots of lithic tools, one lot of sherds, eight lots of faunal remains, 32 lots of bone tools, 15 lots of shell, eight lots of shell beads, 11 shell spoons, six lots of worked copper, three lots of earspools, seven lots of pipe bowls, 11 lots of soil, four lots of ceramic vessels and sherds, five lots of pearl beads, 10 lots of worked faunal teeth, 228 lots of wood, four lots of mica, one amber bead, nine lots of daub, one lot of charcoal, and one lot of fossils. Bedford Mounds (11PK7) is located in Pike County, Illinois. Between 1955 and 1956, avocational archaeologist Gregory Perino excavated at Bedford Mound under the auspices of the Thomas Gilcrease Foundation.

Human remains representing, at least, four individuals have been reasonably identified. The 10 associated funerary objects are one lot of shell, one lot of pipe bowls, four lots of shell beads, two lots of ceramic vessels and sherds, and two lots of lithic tools. The Helm site (11PK1234) is located in Pike County, Illinois. In 1955, avocational archaeologist Gregory Perino excavated at the Helm Site under the auspices of the Thomas Gilcrease Foundation.

The 115 associated funerary objects are 39 lots of ceramic vessels and sherds, one lot of pipe bowls, one lot of chunkey stones, 68 lots of lithic tools, two lots of shell, one lot of charcoal, and three lots of faunal remains and antlers. The Homer Adams site is located in Pike County, Illinois. In 1970, avocational archaeologist Gregory Perino excavated the Homer Adams site under the auspices of the Thomas Gilcrease Foundation.

The 44 associated funerary objects are two lots of mica; three lots of faunal remains; five lots of shell beads, spoons, and fragments; 10 lots of ceramic vessels and sherds; 21 lots of lithic tools; one lot of charcoal; one lot of pipe bowls; and one lot of chunkey stones. The Joe Gay site (11PK1573) is located in Pike County, Illinois. In 1970, avocational archaeologist Gregory Perino excavated the Joe Gay Site under the auspices of the Thomas Gilcrease Foundation.

The 73 associated funerary objects are one lot of textile fragments, one lot of wood, two lots of ceramic sherds, two lots of pigment, 39 lots of lithic tools, 16 lots of bone tools, one lot of ceramic beads, four lots of pipe bowls, two lots of worked copper, three lots of faunal remains, one lot of worked faunal teeth, and one large engraved bone with a bird figure. The Lawrence Gay site is located in Pike County, Illinois, near the Joe Gay site above. In 1970, avocational archaeologist Gregory Perino excavated the Joe Gay Site under the auspices of the Thomas Gilcrease Foundation.

Human remains representing, at least, on individual has been reasonably identified. The 35 associated funerary objects are three lots of faunal remains, 16 lots of lithic tools, one lot of worked copper, one lot of mica, one lot of feces (species unknown), one lot of shell, one lot of pipe bowls, seven lots of bone tools, and three lots of sherds. The Montezuma site (11PK1245) is located in Pike County, Illinois. In 1956, avocational archaeologist Gregory Perino excavated the Montezuma Site under the auspices of the Thomas Gilcrease Foundation.

Human remains representing, at least, four individuals have been reasonably identified. The 199 associated funerary objects are two lots of shell beads, three lots of faunal remains, one cartridge, two lots of pearl beads, one lot of pipes, 188 lots of lithic tools, one lot of shell, and one lot of worked faunal teeth. The Pilot Peak site (11PK1404) is located in Pike County, Illinois. In 1956, avocational archaeologist Gregory Perino excavated the Pilot Peak Site under the auspices of the Thomas Gilcrease Foundation.

The 11 associated funerary objects are one ceramic vessel, four lots of sherds, and six lots of lithics. The Shaffner site is located in Pike County, Illinois. In 1968, avocational archaeologist Gregory Perino excavated Shaffner Site under the auspices of the Thomas Gilcrease Foundation.

The two associated funerary objects are one lot of sherds and one vessel. The Stilwell II site (11PK1044) is located in Pike County, Illinois. Between 1961 and 1962, avocational archaeologist Gregory Perino excavated at the Stilwell II Site.

Human remains representing, at least, five individuals have been reasonably identified. The 51 associated funerary objects are 24 lots of lithic tools, one lot of stones, one lot of wood, one lot of shell, 17 lots of faunal remains, five lots of sherds, one limestone disc, and one lot of chunkey stones. Swartz Mound #1 (11PK1394) is located in Pike County, Illinois. In 1956, avocational archaeologist Gregory Perino excavated Swartz Mound #1 under the auspices of the Thomas Gilcrease Foundation.

For each of the sites above, most of the ancestral remains and funerary objects came directly to Thomas Gilcrease following excavation, though Gregory Perino did keep some in personal collection. Perino's collection was purchased by the Gilcrease Foundation in the 1960s. Thomas Gilcrease transferred his collection to the City of Tulsa in 1955 and 1963-64 to form Gilcrease Museum. To our knowledge, no known hazardous substances were used to treat any of the remains or associated funerary objects.

The three associated funerary objects are three lots of lithic tools. The Harshman site is located in Pike County, Illinois. Gilcrease Museum likely acquired these in the 1960s or 1970s.

The two associated funerary objects are one lot of sherds and one lot of mica fragments. The Manker site is located in Pike County, Illinois near Swartz Mound (11PK1394). Likely in the 1950s, avocational archaeologist Gregory Perino excavated at Manker site. These funerary objects may have come directly to Gilcrease Museum after excavation or may have been kept by Gregory Perino and later purchased from him by Gilcrease Museum.

The three associated funerary objects are one lot of lithic tools, one plummet, and one lot of ceramic sherds. The Sand Ridge site is located near Florence in Pike County, Illinois. The funerary objects were removed in 1960 and likely were acquired by Gilcrease Museum in the 1960s.

The two associated funerary objects are two lots of lithic tools. The Stilwell site is located in Pike County, Illinois near the Stilwell II site (11PK1044). The funerary objects were collected by Hugh Young, whose collection, including these items, was partially purchased by Thomas Gilcrease in 1960.

The 96 associated funerary objects are 86 lots of lithic tools, two lots of sherds, five chunkey stones, one metate, two lots of worked copper. These funerary objects were removed from unknown sites in Pike County, Illinois likely in the early to mid-20th century. Though most lack provenance information, some came to Gilcrease Museum in the 1960s from Gregory Perino's collection and from Hugh Young's collection.

Cultural Affiliation

Based on the information available and the results of consultation, cultural affiliation is clearly identified by the information available about the human remains and associated funerary objects described in this notice.

Determinations

Gilcrease Museum has determined that:

• The human remains described in this notice represent the physical remains of 36 individuals of Native American ancestry.

• The 1,036 objects described in this notice are reasonably believed to have been placed intentionally with or near individual human remains at the time of death or later as part of the death rite or ceremony.

• There is a reasonable connection between the human remains and associated funerary objects described in this notice and the Citizen Potawatomi Nation, Oklahoma; Eastern Shawnee Tribe of Oklahoma; Forest County Potawatomi Community, Wisconsin; Iowa Tribe of Kansas and Nebraska; Kaw Nation, Oklahoma; Match-e-be-nash-she-wish Band of Pottawatomi Indians of Michigan; Miami Tribe of Oklahoma; Omaha Tribe of Nebraska; Otoe-Missouria Tribe of Indians, Oklahoma; Peoria Tribe of Indians of Oklahoma; Pokagon Band of Potawatomi Indians, Michigan and Indiana; Ponca Tribe of Indians of Oklahoma; Ponca Tribe of Nebraska; Prairie Band Potawatomi Nation; Quapaw Nation; Sac & Fox Nation, Oklahoma; Sac & Fox Tribe of the Mississippi in Iowa; Shawnee Tribe; and the Winnebago Tribe of Nebraska.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after January 15, 2026. If competing requests for repatriation are received, the Gilcrease Museum must determine the most appropriate requestor prior to repatriation. Requests for joint repatriation of the human remains and associated funerary objects are considered a single request and not competing requests. The Gilcrease Museum is responsible for sending a copy of this notice to the Indian Tribes and Native Hawaiian organizations identified in this notice.

Authority: Native American Graves Protection and Repatriation Act, 25 U.S.C. 3003, and the implementing regulations, 43 CFR 10.10.

Dated: November 19, 2025.
Melanie O'Brien,
Manager, National NAGPRA Program.

[FR Doc. 2025-22916 Filed 12-15-25; 8:45 am]

BILLING CODE 4312-52-P